DEPARTMENT OF TRANSPORTATION

Federal Aviation Administration

Proposed Opinion on the Transferability of Interim Operating Authority Under the National Parks Air Tour Management Act

AGENCY: Federal Aviation Administration (FAA), DOT.

ACTION: Notice of proposed opinion; extension of comment period.

SUMMARY: This action extends the comment period for a notice of proposed opinion that was published on June 28, 2006 (71 FR 36874). In that document, the FAA set forth a proposed decision on the transferability of interim operating authority under the National Parks Air Tour Management Act.

DATES: Send your comments on or before September 13, 2006.

ADDRESSES: You may send comments [identified as “Comments on the Transferability of IOA”] using any of the following methods:

• Sending your comments electronically to james.whitlow@faa.gov.

• Mail: Office of the Chief Counsel; FAA, 800 Independence Ave., SW., Washington, DC 20591.

• Fax: 1-202-267-3227.

FOR FURTHER INFORMATION CONTACT: James Whitlow, Deputy Chief Counsel, Federal Aviation Administration, 800 Independence Avenue, SW., Washington, DC 20591; telephone (202) 267-3773.

SUPPLEMENTARY INFORMATION:

Extension of Comment Period

On June 28, 2006, a notice of proposed opinion, Proposed Opinion on the Transferability of Interim Operating Authority Under the National Parks Air Tour Management Act, was published in the Federal Register with a comment due date of July 28, 2006. On July 14, 2006, the FAA received a request from the U.S. Air Tour Association, through legal counsel, to extend the comment period until September 13, 2006. In response to that request, the FAA is extending the comment period to September 13, 2006.

Issued in Washington, DC, on July 20, 2006.
James W. Whitlow,
Deputy Chief Counsel.

[FR Doc. 06-6468 Filed 7-25-06; 8:45 am]

BILLING CODE 4910-13-M